INTERNATIONAL TRADE COMMISSION

[Inv. No. 337-TA-1337]

Institution of Investigation; Certain Hazelnuts and Products Containing the Same

AGENCY: U.S. International Trade Commission

ACTION: Notice

SUMMARY: Notice is hereby given that a complaint was filed with the U.S. International Trade Commission on September 15, 2022, under section 337 of the Tariff Act of 1930, as amended, on behalf of Pratum Farm, LLC of Salem, Oregon. Letters supplementing the complaint were filed on September 15, October 3, and October 4, 2022. The complaint, as supplemented, alleges violations of section 337 based upon the importation into the United States and sale of certain hazelnuts and products containing the same by reason of false advertising, the threat or effect of which is to destroy or substantially injure an industry in the United States or to prevent the establishment of such an industry. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2022).

Scope of Investigation: Having considered the complaint, the U.S. International Trade Commission, on October 17, 2022, ordered that—

(1) Pursuant to subsection (b) of section 337 of the Tariff Act of 1930, as amended, an investigation be instituted to determine whether there is a violation of subsection (a)(1)(A) of section 337 in the importation into the United States or in the sale of certain products identified in paragraph (2) by reason of false advertising, the threat or effect of which is to destroy or substantially injure an industry in the United States or to prevent the establishment of such an industry;

(2) Pursuant to section 210.10(b)(1) of the Commission's Rules of Practice and Procedure, 19 CFR 210.10(b)(1), the plain language description of the accused products or category of accused products, which defines the scope of the investigation, is “certain hazelnuts advertised as `organic' or `certified organic' including kernels, paste and flour, and hazelnut spread”;

(3) For the purpose of the investigation so instituted, the following are hereby named as parties upon which this notice of investigation shall be served:

(a) The complainant is:

Pratum Farm, LLC, 120 95th Ave. NE, Salem, OR 97317

(b) The respondents are the following entities alleged to be in violation of section 337, and are the parties upon which the complaint is to be served:

Arslanturk Tarim Urunleri San Ihr Ve Ihr A.S., Ozgen Mahallesi Bayburt Cad. No. 194, 61700 Arakli-Trabzon Turkey

Balsu Gida San Ve Tic. A.S., Pasabahce Mahallesi, Cemal Bey, Sokak, No:11/1, 34800 Beykoz Istanbul Turkey

Balsu USA, 3250 NE 1st Avenue, Ste. 305, Miami, FL 33137

Farmeks Tarim Urunleri San Ve Tic. A.S., Aegean Free Zone Mumtaz Sok. No:16, PK.35410 Gaziemir/Izmir Turkey

Nimeks Organik Tarim Urun San Ve Tic Ltd STI, A.O.S.B. 10001 Sk. No: 25, 35620 Cigli/Izmir Turkey

Natural Food Source Inc., 1139 Lehigh Ave., Suite 300, Whitehall, PA 18052

Progida Tarim Urunleri San Ve Tic. A.S., Iz Giz Plaza, Eski Buyukdere Cad. No: 9, Floor: 1, Flat 4, 34398 Maslak/Sariyer/Istanbul Turkey

Ofi d/b/a Olam Edible Nuts, 205 East River Park Circle, Suite 310, Fresno, CA 93720

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 18, 2022.
Jessica Mullan,
Attorney Advisor.

[FR Doc. 2022-22955 Filed 10-20-22; 8:45 am]

BILLING CODE 7020-02-P